DEPARTMENT OF COMMERCE

Bureau of Industry and Security

President's Export Council Subcommittee on Export Administration; Notice of Open Meeting

The President's Export Council Subcommittee on Export Administration (PECSEA) will meet on December 10, 2014, 10:00 a.m., at the U.S. Department of Commerce, Herbert C. Hoover Building, Room 4830, 14th Street between Pennsylvania and Constitution Avenues NW., Washington, DC. The PECSEA provides advice on matters pertinent to those portions of the Export Administration Act, as amended, that deal with United States policies of encouraging trade with all countries with which the United States has diplomatic or trading relations and of controlling trade for national security and foreign policy reasons.

Agenda

Open Session

1. Opening remarks by the Chairman and Vice Chairman.

2. Opening remarks by the Bureau of Industry and Security.

3. Export Control Reform Update.

4. Presentation of papers or comments by the Public.

5. Data Transmission and Security Subcommittee Presentation.

6. Process Improvements and Trusted Trader Subcommittee Presentation.

7. Outreach Subcommittee Update.

8. Update: One-year Anniversary of the First ECR Transition Rule Statistics.

9. Consolidated Screening List Demonstration and Discussion.

The open session will be accessible via teleconference to 25 participants on a first come, first served basis. To join the conference, submit inquiries to Ms. Yvette Springer at Yvette.Springer@bis.doc.gov no later than December 3, 2014.

A limited number of seats will be available for the public session. Reservations are not accepted. To the extent that time permits, members of the public may present oral statements to the Committee. The public may submit written statements at any time before or after the meeting. However, to facilitate the distribution of public presentation materials to the Committee members, the Committee suggests that presenters forward the public presentation materials prior to the meeting to Ms. Springer via email.

For more information, call Yvette Springer at (202) 482-2813.

Dated: November 19, 2014.
Kevin J. Wolf,
Assistant Secretary for Export Administration.

[FR Doc. 2014-27869 Filed 11-24-14; 8:45 am]

BILLING CODE 3510-JT-P